DEPARTMENT OF TRANSPORTATION

Federal Aviation Administration

14 CFR Part 39

[Docket No. FAA-2013-0826; Directorate Identifier 2011-SW-046-AD]

RIN 2120-AA64

Airworthiness Directives; Eurocopter France Helicopters

AGENCY: Federal Aviation Administration (FAA), DOT.

ACTION: Notice of proposed rulemaking (NPRM).

SUMMARY: We propose to adopt a new airworthiness directive (AD) for Eurocopter France (Eurocopter) Model AS332C, AS332L, AS332L1, AS332L2, and SA330J helicopters. This proposed AD would prohibit use of the hydraulic hoist in helicopters equipped with certain parts and configurations until a hoist beam lower fitting protector is installed. This proposed AD is prompted by a report that the hoist cable jammed during a rescue at sea. The proposed actions are intended to prevent the hoist cable from jamming and subsequent cable failure, which could result in injury and damage to the helicopter.

DATES: We must receive comments on this proposed AD by November 25, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the foreign authority's AD, the economic evaluation, any comments received, and other information. The street address for the Docket Operations Office (telephone 800-647-5527) is in the ADDRESSES section. Comments will be available in the AD docket shortly after receipt.

For service information identified in this proposed AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

FOR FURTHER INFORMATION CONTACT: Robert Grant, Aviation Safety Engineer, Safety Management Group, Rotorcraft Directorate, FAA, 2601 Meacham Blvd., Fort Worth, Texas 76137; telephone 817-222-5110; email robert.grant@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued EASA AD No. 2009-0271R1, dated July 8, 2011, to correct an unsafe condition for Eurocopter Model AS332C, AS332C1, AS332L1, AS332L2, and SA330J helicopters with certain hoist beams installed. EASA advises that during a hoisting operation, a hydraulic hoist cable jammed against the base of the supporting strut of a dual hoist tray installation. According to EASA, the load was transferred to the back-up electrical hoist and safely brought on board. However, the jamming of the hydraulic hoist cable against the strut damaged the back-up electrical hoist power supply harness, which is routed through the area, resulting in a short circuit that fused and ruptured the cable. EASA reports that this condition, if not corrected, could lead to further incidents of hoist cable jamming and subsequent cable failure, which could result in personal injuries and damage to the helicopter.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other products of the same type design.

Related Service Information

Eurocopter has issued one Emergency Alert Service Bulletin (EASB), Revision 3, dated July 6, 2011, with three different numbers. EASB No. 25.02.08 is for civil and military Model AS332-series helicopters; EASB No. 25.01.29 is for military Model AS532-series helicopters; and EASB No. 25.39 is for civil and military Model SA330-series helicopters. The EASB originally provided instructions to prevent the main hydraulic hoist cable from becoming jammed and damaged in the fixed fitting of the hoist beam lower fitting. The revisions add further instructions and expand the effectivity to more helicopters and helicopter equipment configurations. The revisions also extend some compliance deadlines, and revise some instructions to account for improved installation procedures. After further investigation, the most recent revisions remove some helicopter models from the list of applicable helicopters.

Proposed AD Requirements

This proposed AD would require installing a placard that prohibits raising or lowering the load in case of a cable jam. If the hoist control electrical harness is routed at the base of the hoist supporting strut, the proposed AD would require disabling the hoist pyrotechnic shear function and installing placards that state the hoist pyrotechnic shear function is disabled. The proposed AD would also require either installing a hoist beam lower fitting protector or installing placards that prohibit operating the hydraulic hoist.

Differences Between This Proposed AD and the EASA AD

Our AD would differ from the EASA AD as follows:

The EASA AD requires certain actions before the next flight, while we would require the same actions before the next hoisting operation.

The EASA AD sets calendar dates that have passed for compliance, while we set compliance based on hours time-in-service.

The EASA AD misidentifies the Eurocopter SA330J service bulletin number and paragraph number in its required actions for Model SA330J helicopters. This proposed AD would require compliance with paragraph 2.B.4 of Eurocopter Emergency Alert Service Bulletin No. 25.39, Revision 3, dated July 5, 2011.

Costs of Compliance

We estimate that this proposed AD would affect 20 helicopters of U.S. Registry and that work hours would average $85 an hour. Based on these estimates, we would expect the following costs:

• The cost for installing and removing placards is minimal.

• Disabling the hoist pyrotechnic shear function would require 1 work-hour and no parts would be needed for a cost of $85 per helicopter, $1,700 for the U.S. fleet.

• Installation of the hoist beam lower fitting protector for Model AS332 helicopters without a right hand (RH) sliding door and without a short footstep would require 6 work-hours for a labor cost of $510 per helicopter. Parts would cost $4,760 for a total cost of $5,270 per helicopter.

• Installation of the hoist beam lower fitting protector and short footstep with lower side protector for Model AS332 helicopters without a RH sliding door and with a short footstep would require 12 work-hours for a labor cost of $1020 per helicopter. Parts would cost $26,891 for a total cost of $27,401 per helicopter.

• Installation of the hoist beam protector for Model AS332 helicopters with a RH sliding door would require 3 work-hours for a labor cost of $255 per helicopter. Parts would cost $20,858 for a total cost of $21,113 per helicopter.

• Installation of the hoist beam protector for Model SA330J helicopters would require 3 work-hours for a labor cost of $255 per helicopter. Parts would cost $4,774 for a total cost of $5,029 per helicopter.

Enabling the hoist pyrotechnic shear function would require 1 work-hour and no parts would be needed for a cost of $85 per helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Eurocopter France (Eurocopter): Docket No. FAA-2013-0826; Directorate Identifier 2011-SW-046-AD.

(a) Applicability

(1) This AD applies to the following helicopters, certificated in any category:

(i) Eurocopter Model AS332C, AS332L, AS332 L1, and AS332 L2 helicopters with a hoist beam, Part Number (P/N) 330A87-2345-00, -01, -02, -03, -04, -05, or -06, installed with a single or double hoist plate; and

(ii) Eurocopter Model SA330J helicopters with a hoist beam, P/N 330A87-2345-00, -01, -02, -03, -04, -05, or -06, installed with a single hoist plate.

(b) Unsafe Condition

The unsafe condition is defined as hoist cable jamming and subsequent cable failure, which could result in injuries or damage to the helicopter.

(c) Comments Due Date

Comments are due November 25, 2013.

(d) Compliance

You are responsible for performing each action required by this AD within the specified compliance time unless accomplished previously.

(e) Required Actions

(1) Before the next hoist operation:

(i) For all helicopters, install a placard in full view of the hoist operator that states: “IN CASE OF CABLE JAM AGAINST STRUT DO NOT ATTEMPT TO RAISE OR LOWER LOAD”.

(ii) For helicopters with a hoist control electrical harness routed at the base of the hoist supporting strut:

(A) Disable the hoist pyrotechnic shear function.

(B) Install a placard on the instrument panel in full view of the flight crew that states:

“HOIST PYROTECHNIC SHEAR FUNCTION DISABLED”.

(C) Install a placard in full view of the hoist operator that states:

“HOIST PYROTECHNIC SHEAR FUNCTION DISABLED. IN CASE OF

NECESSITY, CUT THE HOIST CABLE WITH THE SHEARS LOCATED IN THE

CABIN.”

(iii) For helicopters listed in Paragraph (a)(1)(i) of this AD with a tray-mounted double hoist installed with the back-up electrical hoist power supply harness routed at the base of the hoist supporting strut, do one of the following:

(A) Install a hoist beam lower fitting protector in accordance with the Accomplishment Instructions, paragraph 2.B.2.b of Eurocopter Emergency Alert Service Bulletin No. 25.02.08, Revision 3, dated July 6, 2011 (EASB), and if a short footstep, P/N 332P21-9000-00 or 332P21-2052-01, is installed, also install the short footstep with lower side protector in accordance with the Accomplishment Instructions, paragraph 2.B.2.c.2, of the EASB; or

(B) Install two placards, one in full view of the flight crew and one in full view of the the hoist operator, that state:

“IN-FLIGHT OPERATION OF THE HOIST IS PROHIBITED.”

(2) Within 60 hours time-in-service:

(i) For helicopters listed in paragraph (a)(1)(i) of this AD without a tray-mounted double hoist installed with the back-up electrical hoist power supply harness routed at the base of the hoist supporting strut and without a right hand sliding door, P/N 332A22-1165-01, installed, do one of the following:

(A) Install a hoist beam lower fitting protecter in accordance with the Accomplishment Instructions, paragraph 2.B.2.b, of the EASB and if a short footstep, P/N 332P21-9000-00 or 332P21-2052-01, is installed, also install the short footstep with lower side protector in accordance with the Accomplishment Instructions, paragraph 2.B.2.c.2, of the EASB; or

(B) Install two placards, one in full view of the flight crew and one in full view of the hoist operator, that state:

“IN-FLIGHT OPERATION OF THE HOIST IS PROHIBITED.”

(ii) For helicopters listed in paragraph (a)(1)(i) of this AD with a right hand sliding door, P/N 332A22-1165-01, installed, do one of the following:

(A) Install a hoist beam lower fitting protector in accordance with the Accomplishment Instructions, paragraph 2.B.5, of the EASB; or

(B) Install two placards, one in full view of the flight crew and one in full view of the hoist operator, that state:

“IN-FLIGHT OPERATION OF THE HOIST IS PROHIBITED.”

(iii) For Model SA330J helicopters, do one of the following:

(A) Install a hoist beam lower fitting protector in accordance with the Accomplishment Instructions, paragraph 2.B.4, of Eurocopter Emergency Alert Service Bulletin No. 25.39, Revision 3, dated July 5, 2011; or

(B) Install two placards, one in full view of the flight crew and one in full view of the hoist operator, that state:

“IN-FLIGHT OPERATION OF THE HOIST IS PROHIBITED.”

(3) For any helicopter that has been modified per paragraph (e)(1)(iii)(A), (e)(2)(i)(A), (e)(2)(ii)(A), or (e)(2)(iii)(A) of this AD, do the following before the next hoist operation:

(i) Re-establish the hoist pyrotechnic shear function if disabled per paragraph (e)(1)(ii)(A).

(ii) Remove any placards if installed as required by paragraph (e)(1)(i), (e)(1)(ii)(B), (e)(1)(ii)(C), (e)(1)(iii)(B), (e)(2)(i)(B), (e)(2)(ii)(B), or (e)(2)(iii)(B).

(f) Alternative Methods of Compliance (AMOCs)

(1) The Manager, Safety Management Group, FAA, may approve AMOCs for this AD. Send your proposal to: Robert Grant, Aviation Safety Engineer, Safety Management Group, Rotorcraft Directorate, FAA, 2601 Meacham Blvd., Fort Worth, Texas 76137; telephone 817-222-5110; email robert.grant@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in European Aviation Safety Agency (EASA) AD No. 2009-0271R1, dated July 8, 2011. You may view the EASA AD at http://www.regulations.gov by searching for and locating it in Docket No. FAA-2013-0826.

(h) Subject

Joint Aircraft Service Component (JASC) Code: 7100, Powerplant System.

Issued in Fort Worth, Texas, on September 17, 2013.
Gwendolynne O'Connell,
Acting Directorate Manager, Rotorcraft Directorate, Aircraft Certification Service.

[FR Doc. 2013-23437 Filed 9-25-13; 8:45 am]

BILLING CODE 4910-13-P